DEPARTMENT OF THE INTERIOR

Bureau of Indian Affairs

[178A2100DD/AAKC001030/A0A501010.999900 253G]

Land Acquisitions; The Chickasaw Nation

AGENCY: Bureau of Indian Affairs, Interior.

ACTION: Notice.

SUMMARY: The Principal Deputy Assistant Secretary—Indian Affairs made a final agency determination to acquire 30.05 acres, more or less, of land near the Town of Terral, Jefferson County, Oklahoma (Terral Site) in trust for the Chickasaw Nation for gaming and other purposes on January 19, 2017.

FOR FURTHER INFORMATION CONTACT: Ms. Paula L. Hart, Director, Office of Indian Gaming, Bureau of Indian Affairs, MS-3657 MIB, 1849 C Street NW., Washington, DC 20240, telephone (202) 219-4066.

SUPPLEMENTARY INFORMATION: This notice is published in the exercise of authority delegated by the Secretary of the Interior to the Assistant Secretary—Indian Affairs by 209 Departmental Manual 8.1, and is published to comply with the requirements of 25 CFR 151.12(c)(2)(ii) that notice of the decision to acquire land in trust be promptly provided in the Federal Register.

On January 19, 2017, the Principal Deputy Assistant Secretary—Indian Affairs issued a decision to accept the Terral Site, consisting of approximately 30.05 acres, more or less, of land in trust for the Chickasaw Nation (Nation), under the authority of the Indian Reorganization Act, 25 U.S.C. 5108. The Principal Deputy Assistant Secretary—Indian Affairs determined that Nation's request also meets the requirements of the Indian Gaming Regulatory Act's “Oklahoma exception,” 25 U.S.C. 2719(a)(2)(A)(i), to the general prohibition contained in 25 U.S.C. 2719(a) on gaming on lands acquired in trust after October 17, 1988.

The Principal Deputy Assistant Secretary—Indian Affairs, on behalf of the Secretary of the Interior, will immediately acquire title to the Terral Site in the name of the United States of America in trust for the Nation upon fulfillment of Departmental requirements.

The 30.05 acres, more or less, are located in Jefferson County, Oklahoma, and are described as follows:

A tract of land in the South Half (S/2) of the Southeast Quarter (SE/4) of Section Four (4), Township Eight (8) South, Range Seven (7) West, Indian Base and Meridian, Jefferson County, Oklahoma, being more particularly described as follows: Commencing at the Southeast Corner of said Section 4;

Thence N. 89°55′53″ W., along the South line of the Southeast Quarter, a distance of 800.90 feet to the POINT OF BEGINNING; Thence continuing N. 89°55′53″ W., along the South line of the Southeast Quarter, a distance of 923.58 feet to a point on the Easterly Right of Way line of U.S. Highway No. 81 as filed in the Office of the County Clerk, Jefferson County, Oklahoma on a Warranty Deed in Book 489 on Page 289; Thence along said Easterly Right of Way line of U.S. Highway No. 81 for the following Four (4) Courses,

1. Thence N. 00°48′14″ E., a distance of 656.17 feet;

2. Thence N. 27°10′10″ W., a distance of 164.04 feet;

3. Thence with a non-tangent curve, turning to the Left with an arc length of 424.41 feet, with a radius of 2431.83 feet, with a chord bearing of N. 21°43′54″ W., with a chord length of 423.87 feet;

4. Thence N. 35°29′11″ W., a distance of 156.29 feet to a point on the North line of the South Half of the Southeast Quarter; Thence S. 89°58′49″ E., along the North line of the South Half of the Southeast Quarter, a distance of 1233.24 feet; Thence S. 00°09′38″ E., parallel with the West line of the Southeast Quarter of the Southeast Quarter, a distance of 1323.74 feet to the POINT OF BEGINNING, containing 30.05 Acres more or less. This legal description was based upon True North as determined by GPS Observation. Prepared by Obert D. Bennett, RPLS No. 1471 on December 19, 2013. SURFACE ONLY.

Dated: June 21, 2017.
Michael S. Black,
Acting Assistant Secretary—Indian Affairs.

[FR Doc. 2017-15011 Filed 7-17-17; 8:45 am]

BILLING CODE 4337-15-P